ENVIRONMENTAL PROTECTION AGENCY

40 CFR Parts 50, 52 and 81

[FRL-6841-1]

RIN 2060-AJ05

Rescinding the Finding That the Pre-existing PM-10 Standards are No Longer Applicable in Northern Ada County/Boise, Idaho

AGENCY: Environmental Protection Agency (EPA).

ACTION: Proposed Rule; extension of comment period.

SUMMARY: Today, EPA is hereby extending the closing date of the public comment period regarding EPA's notice of proposed rulemaking “Rescinding the Finding that the Pre-existing PM-10 Standards are No Longer Applicable in Northern Ada County/Boise, Idaho,” published June 26, 2000 at 65 FR 39321. The original comment period was to close on July 26, 2000. The new closing date will be August 31, 2000. The EPA is soliciting comments on this proposal and one of the comments we've received asks for an extension of the public comment period. Due to the complexity of the issues surrounding the action EPA is proposing to take, we find it appropriate that we provide additional time for interested and affected parties to submit comments. All comments received by EPA on or prior to August 31, 2000 will be considered in the development of a final rule.

DATES: All comments regarding EPA's notice of proposed rulemaking issued on June 26, 2000 must be received by EPA on or before close of business August 31, 2000 instead of July 26, 2000.

ADDRESSES: Comments should be submitted to:

On paper. Send paper comments (in duplicate, if possible) to the Air and Radiation Docket and Information Center (6102), Attention: Docket No. A-2000-13, U.S. Environmental Protection Agency, 1200 Pennsylvania Ave., NW, Washington, DC 20460, telephone (202) 260-7548.

Electronically. Send electronic comments to EPA at: A-and-R-Docket@epa.gov. Avoid sending confidential business information (CBI). We accept comments as e-mail attachments or on disk. Either way, they must be in WordPerfect version 5.1, 6.1 or Corel 8 file format. Avoid the use of special characters and any form of encryption. You may file your comments on this proposed rule online at many Federal Depository Libraries. Be sure to identify all comments and data by docket number A-2000-13.

Public inspection. You may read the proposed rule (including paper copies of comments and data submitted electronically, minus anything claimed as CBI) at the Office of Air and Radiation Docket and Information Center located 3 at 401 M Street, SW, Washington, DC 20460. They are available for public inspection from 8 a.m. to 5:30 p.m., Monday through Friday, excluding legal holidays. A reasonable fee may be charged for copying.

FOR FURTHER INFORMATION CONTACT: Questions about the proposal should be addressed to Gary Blais, Office of Air Quality Planning and Standards, Air Quality Strategies and Standards Division, Integrated Policy and Strategies Group, MD-15, Research Triangle Park, NC 27711, telephone (919) 541-3223 or e-mail to blais.gary@epa.gov. To ask about policy matters specifically regarding Northern Ada County/Boise, call Bonnie Thie, EPA Region 10, Office of Air Quality (OAQ-107), EPA, Seattle, Washington,(206) 553-1189.

Dated: July 19, 2000.
Henry C. Thomas, Jr.,
Acting Director, Office of Air Quality Planning and Standards.

[FR Doc. 00-18884 Filed 7-25-00; 8:45 am]

BILLING CODE 6560-50-P